ENVIRONMENTAL PROTECTION AGENCY

[FRL-7828-8]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that EPA has made under the New Source Performance Standards (NSPS); the National Emission Standards for Hazardous Air Pollutants (NESHAP and MACT); and the Stratospheric Ozone Protection Program.

FOR FURTHER INFORMATION CONTACT: An electronic copy of each complete document posted on the Applicability Determination Index (ADI) database system is available on the Internet through the Office of Enforcement and Compliance Assurance (OECA) website at: http://www.epa.gov/compliance/assistance/applicability. The document may be located by date, author, subpart, or subject search. For questions about the ADI or this notice, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION: Background: The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP, refer to as the Maximum Achievable Control Technology (MACT) standard, and section 111(d) of the Clean Air Act regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Furthermore, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 32 such documents added to the ADI on September 17, 2004. The subject, author, recipient, date and header of each letter and memorandum are listed in this notice, as well as a brief abstract of the letter or memorandum. Complete copies of these documents may be obtained from the ADI through the OECA Web site at: http://www.epa.gov/compliance/assistance/applicability.

Summary of Headers and Abstracts

The following table identifies the database control number for each document posted on the ADI database system on September 17, 2004; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

Control number | Category | Subparts | Title
M040016 | MACT | EEEE, FFFF | Application of Multiple MACT Standards.
M040025 | MACT | SSSS | Streamlining NSPS Subpart TT/NESHAP Subpart SSSS.
M040017 | MACT | PPPP | Methyl Ethyl Ketone (MEK) Used in Chemical Welding Process.
M040018 | MACT | GGG | Alternative Monitoring Parameters for Carbon Adsorbers.
M040019 | MACT | EEE | Waivers & Alternative Monitoring for Incinerator/ Scrubber.
M040020 | MACT | EEE | Waivers & Alternative Monitoring for Condenser/Absorber & Scrubber.
M040021 | MACT | EEE | Waivers & Alternative Monitoring for Condenser/Absorber & Scrubber.
M040022 | MACT | EEE | Waivers & Alternative Monitoring for Condenser/Absorber & Scrubber.
M040023 | MACT | GG | Automated Dynamic Pressure Monitoring for Inorganic HAPs.
M040026 | MACT | MMMM, XXXX | Rubber Tire Manufacturing.
M040024 | MACT | S | Hot Condensing Scrubber/Tank and Hotwell Control Devices.
M040027 | MACT | AAAA | Definition of Landfill Gas Treatment.
| ACT | AAAA | Definition of Landfill Gas Treatment.
Z040002 | NESHAP | C | Incineration of Beryllium-Containing Waste.
0400019 | NSPS | TT | Streamlining NSPS Subpart TT/NESHAP Subpart SSSS.
0400020 | NSPS | Dc | Monthly Monitoring of Fuel Usage.
0400021 | NSPS | GG | Approval of New Test Port Location.
0400022 | NSPS | Dc, Da, D | Classification of Petroleum-Derived Fuel.
0400023 | NSPS | CCCC | Alternative Operating Parameter Monitoring.
0400024 | NSPS | Dc | Applicability to Fuel Heaters.
0400025 | NSPS | BB | Alternative Monitoring for Scrubber.
0400026 | NSPS | NNN | Alternative Monitoring.
0400027 | NSPS | Dc, Db | Carbon Burn-Out Process.
0400028 | NSPS | WWW | Definition of Landfill Gas Treatment.
0400029 | NSPS | Kb, VV, III, NNN, RRR | Ethanol Manufacturing Plant.
0400030 | NSPS | QQQ | Junction Box Tight Seal & Infrequently Used Drain.
0400031 | NSPS | QQQ | Junction Box Tight Seal & Infrequently Used Drain.
0400032 | NSPS | WWW | Definition of Landfill Gas Treatment.
0400033 | NSPS | WWW | Changes In Monitoring and Recordkeeping Procedures.
0400034 | NSPS | GG | Custom Fuel Sulfur Monitoring Schedule.
0400035 | NSPS | GG | Custom Fuel Sulfur Monitoring Schedule.
400036 | NSPS | CCCC | Air Curtain Incinerator for Clearing Dead Trees.

Abstracts

Abstract for [M040016]

Q: May the Ashland Specialty Chemical Company facility located at Neville Island in Pittsburgh, subject to the Hazardous Organic NESHAP of 40 CFR part 63 and potentially subject to future Miscellaneous Organic NESHAP (MON) and Organic Liquids Distribution NESHAP (OLD) standards, avoid being subject to the MON and OLD standards by taking enforceable limits and becoming a minor source?

A: Per the EPA guidance memorandum entitled, “Potential to Emit for MACT Standards—Guidance on Timing Issues,” dated May 16, 1995, a facility that is subject to a MACT standard is not necessarily a major source for future MACT standards. For example, if after compliance with a MACT standard, a source's potential to emit is less than the 10/25 tons per year applicability level, EPA will consider the facility to be an area source for a subsequent standard.” Consistent with this guidance, EPA would consider the Company to be an area source for purposes of determining the applicability of the MON and OLD if the Company takes an enforceable limit which makes the facility a minor source of HAPs prior to the compliance dates of the MON and OLD standards.

Abstract for [M040017]

Q: Methyl ethyl ketone is used to soften plastic parts at the Sonoco Products plant in Union, South Carolina, so that they can be joined or welded together in a process that does not leave any nonvolatile residual material on the joined parts. Is this process subject to 40 CFR part 63, subpart PPPP?

A: No. Applicability of MACT subpart PPPP depends on the mass of coating solids remaining on the joined pieces to determine an emission limit. Since this process does not involve any mass of coating solids, the provisions of MACT subpart PPPP do not apply to the operation.

Abstract for [M040018]

Q1: May the Abbott Laboratories facility in North Chicago, Illinois, that is subject to the pharmaceutical MACT standard of 40 CFR part 63, subpart GGG, establish an alternative monitoring parameter for regenerating its carbon adsorption beds that is based on load?

A1: No. EPA will not approve an alternative monitoring parameter that does not also recognize the critical factor of time and include minimum regeneration frequencies.

Q2: May the Abbott facility establish 212 degrees F as a minimum temperature to which the bed is heated during regeneration?

A2: Yes. Based on the manufacturer's recommendation and temperature data collected during the performance test, the facility may establish 212 degrees F as a minimum temperature to which the bed is heated during regeneration.

Q3: May the Abbott facility establish 170 degrees F as the maximum temperature to which the bed is cooled, measured within 15 minutes of completing cooling?

A3: Yes. Based on the manufacturer's recommendation and temperature data collected during the performance test, the facility may establish 170 degrees F as the maximum temperature to which the bed is cooled, measured within 15 minutes of completing cooling.

Q4: May the Abbott facility use an alternative minimum regeneration stream flow rate of 4,877 lb/hr to maintain a methylene chloride emissions control efficiency of 98 percent?

A4: No. The facility may not use an alternative minimum regeneration stream flow rate of 4,877 lb/hr to maintain a methylene chloride emissions control efficiency of 98 percent. The flow rate during the performance test was 5,419 lb/hr. A flow rate of 4.877 lb/hr is based on the facility's assumption that 90percent of the performance test rate is appropriate to sufficiently maintain a 98+ percent methylene chloride emissions control efficiency. EPA can find no support for this assumption.

Abstract for [M040019]

Q1: Will EPA waive the 40 CFR part 63, subpart EEE requirement to establish an Operating Parameter Limit (OPL) on the maximum solids content of the scrubber solution, or the minimum blowdown rate and either the minimum scrubber tank volume or level for the fluid bed incinerator at the BP refinery in Whiting, Indiana?

A1: Yes. Provided the Title 5 permit is rewritten to include an operating condition requiring the use of once through scrubber water, EPA will waive the requirement.

Q2: Will EPA waive the requirement to establish an OPL on the minimum scrubber water pH?

A2: Yes. Provided that the facility includes a water pH of 6.5—9.0 and a requirement to use once through water in its Title 5 permit, and provided that the facility's Title 5 permit is rewritten to include an operating condition requiring the use of once through scrubber water, EPA will waive the requirement.

Q3: Will EPA waive the requirement to analyze the No. 2 fuel oil for regulated constituents?

A3: Yes. EPA will waive the requirement based upon the historical data provided by the facility. However, the facility must continue to analyze the No. 2 fuel oil for principal organic hazardous constituents (POHCS).

Q4: Will EPA approve alternative monitoring for the sludge waste feed rate if the facility continuously monitors the feed rate to the presses and monitors on a monthly basis the ash percentage after the presses?

A4: Yes Provided that the facility also measures the density of the solids before the press on a monthly basis, EPA will approve the requested alternative monitoring for the sludge waste feed rate.

Abstract for [M040020]

Q1: Will EPA waive the 40 CFR part 63, subpart EEE requirement to establish an operating parameter limit (OPL) on the maximum solids content of the scrubber solution, or the minimum blowdown rate and either the minimum scrubber tank volume or level at the condenser/absorber for the T149 Trane incinerator at the Eli Lilly, Tippecanoe Laboratories facility in Shadeland, Indiana?

A1: Yes. Because the maximum solids content of the scrubber solution, or the minimum blowdown rate and either the minimum scrubber tank volume or liquid level are being measured at the Hydro-Sonic scrubber, this OPL does not need to be measured at the condenser/absorber.

Q2: Will EPA waive the requirement to establish an OPL on the minimum pressure drop across the condenser/absorber?

A2: No. Because some hydrochloric acid (HCl) removal occurs at the condenser/ absorber through the liquid to gas interface, EPA will not waive the requirement to establish an OPL on the minimum pressure drop.

Q3: Will EPA waive the requirement to establish an OPL on the minimum liquid feed pressure at the condenser/absorber?

A3: No. Because some HCl removal occurs at the condenser/absorber through the liquid to gas interface, it is appropriate to establish an OPL on the minimum liquid feed pressure to ensure that the feed is at least the amount present during the performance test.

Q4: Will EPA waive the requirement to establish an OPL on the minimum scrubber water pH at the condenser/absorber?

A4: No. The facility adds a mixture of caustic and make-up water to the air pollution control system (APCS) at the condenser/absorber, not at the Hydro-Sonic scrubber. Thus, it is appropriate to establish an OPL on the pH of the caustic/water solution as it enters the condenser/absorber to ensure that the pH of this solution is at least that of the solution used during the performance test.

Q5: Will EPA waive the requirement to establish an OPL on the minimum liquid to gas ratio or the minimum liquid and maximum flue gas flow rates for the condenser/absorber?

A5: No. The justification provided in your request that “the condenser/absorber is not the HCl/Cl2 control device” is insufficient. However, EPA approves the facility's subsequent request to set the minimum liquid feed rate at the level recommended by the manufacturer or lower, if demonstrated during the comprehensive performance test (CPT).

Q6: Will EPA approve an alternative OPL for the minimum pressure drop across the Hydro-Sonic scrubber, based on an equivalent differential pressure which would be calculated based on an equation developed by the manufacturer of the Hydro-Sonic scrubber?

A6: Conditional. The facility may use the model in its CPT plan if it maintains a minimum equivalent differential pressure of 25 inches. If Lilly still wants to develop a site-specific model, it must submit all supporting data to U.S. EPA for review and approval.

Abstract for [M040021]

Q1: Will EPA waive the 40 CFR part 63, subpart EEE requirement to establish an OPL on the minimum pressure drop across the condenser/absorber for the T03 and T04 Trane incinerators at the Eli Lilly, Tippecanoe Laboratories facility in Clinton, Indiana?

A1: No. Because some hydrochloric acid (HCl) removal occurs at the condenser/absorber through the liquid to gas interface, EPA will not waive the requirement to establish an OPL on the minimum pressure drop.

Q2: Will EPA waive the requirement to establish an OPL on the minimum liquid feed pressure at the condenser/absorber?

A2: No. Because some HCl removal occurs at the condenser/absorber through the liquid to gas interface, it is appropriate to establish an OPL on the minimum liquid feed pressure to ensure that the feed is at least the amount present during the performance test.

Q3: Will EPA waive the requirement to establish an OPL on the minimum liquid to gas ratio or the minimum liquid and maximum flue gas flow rates for the condenser/absorber?

A3: No. The justification for the source's original request that the condenser/absorber is not the HCl/Cl2 control device is insufficient. However, EPA approves the facility's alternate request made in a follow up conversation that the minimum liquid feed rate be set at the level recommended by the manufacturer.

Q4: Will EPA waive the requirement to establish an OPL on the minimum scrubber water pH at the condenser/absorber?

A4: No. The facility adds a mixture of caustic and make-up water to the air pollution control system (APCS) at the condenser/absorber. Thus, it is appropriate to establish an OPL on the pH of the caustic/water solution as it enters the condenser/absorber to ensure that the pH of this solution is at least that of the solution used during the performance test.

Q5: Will EPA approve an alternative OPL for the minimum pressure drop across the Hydro-Sonic scrubber, based on an equivalent differential pressure which would be calculated based on an equation developed by the manufacturer of the Hydro-Sonic scrubber?

A5: Conditional. The facility may use the model in its CPT plan if it maintains a minimum equivalent differential pressure of 25 inches. If Lilly still wants to develop a site-specific model, it must submit all supporting data and involve U.S. EPA in the development of the model.

Q6: Will EPA approve annual calibrations as an alternative to the requirement to conduct daily zero and high-level calibration drifts on several instruments?

A6: Eli Lilly withdrew this request.

Q7: Will the U.S. EPA waive the requirement for immediate repair of a CMS found at 40 CFR 63.8(c)(1)(I)?

A7: Eli Lilly withdrew this request.

Abstract for [M040022]

Q1: Will EPA waive the 40 CFR part 63, subpart EEE requirement to establish an operating parameter limit (OPL) on the minimum liquid feed pressure at the condenser/absorber for the T49 Trane incinerator at the Eli Lilly Tippecanoe Laboratories facility in Shadeland, Indiana?

A1: Yes. Because the condenser/absorber uses a flow distributor plate rather than spray nozzles, EPA waives the requirement to establish an operating parameter limit (OPL) on the minimum liquid feed pressure.

Q2: Will EPA waive the requirement to establish an OPL on the maximum solids content of the scrubber solution, or the minimum blowdown rate and either the minimum scrubber tank volume or level at the condenser/absorber?

A2: No. The facility must establish an OPL somewhere in the air pollution control system (APCS), since it recycles some water. The most appropriate location for this OPL is at the condenser/absorber.

Q3: Will EPA waive the requirement to establish an OPL on the minimum scrubber water pH at the condenser/absorber?

A3: No. The facility adds a mixture of caustic and make-up water to the APCS at the condenser/absorber, not at the Hydro-Sonic scrubber. Thus, it is appropriate to establish an OPL on the pH of the caustic/water solution as it enters the condenser/absorber to ensure that the pH of this solution is at least that of the solution used during the performance test.

Q4: Will EPA approve an alternative OPL for the minimum pressure drop across the Hydro-Sonic scrubber, based on an equivalent differential pressure which would be calculated based on an equation developed by the manufacturer of the Hydro-Sonic scrubber?

A4: Conditional. The facility may use the model in its comprehensive performance test plan if it maintains a minimum equivalent differential pressure of 25 inches. If Lilly still wants to develop a site-specific model, it must submit all supporting data and involve EPA in the development of the model.

Q5: Will EPA waive the requirement to establish an OPL for the minimum scrubber water pH at the Hydro-Sonic scrubber?

A5: Yes. Because the facility adds a mixture of caustic and make-up water to the APCS at the condenser/absorber, not at the Hydro-Sonic scrubber.

Q6: Will EPA approve annual calibrations as an alternative to the requirement to conduct daily zero and high-level calibration drifts on several instruments?

A6: Eli Lilly withdrew this request.

Q7: Will the U.S. EPA waive the requirement for immediate repair of a CMS found at 40 CFR 63.8(c)(1)(I)?

A7: Eli Lilly withdrew this request. Recent revisions of the General Provisions changed these requirements in a way that is suitable to Eli Lilly.

Abstract for [M040023]

Q: Will EPA approve an automated dynamic pressure monitoring system for a 3-stage high efficiency particulate air (HEPA) filter, under 40 CFR part 63, subpart GG, standards for Aerospace Manufacturing and Rework Facilities, for the Honeywell plant in South Bend, Indiana?

A: Yes. EPA approves the automated dynamic pressure monitoring system for a 3-stage HEPA filter. The system eliminates the need for manual observations, recordkeeping, and equipment adjustments. To maintain the manufacturer's recommended pressure drop, the automated design includes velocity pressure sensors and a motor-controlled lineal air flow rate which ensures that the pressure drop is not exceeded.

Abstract for [M040024]

Q: Are the hot condensing scrubber/hot condensing tank and the hotwell at the Wausau-Mosinee Paper magnesium-based sulfite pulp mill in Brokaw, Wisconsin, air pollution control devices covered by the pulp and paper Maximum Achievable Control Technology (MACT) standard, 40 CFR part 63, subpart S?

A: Yes, they are considered control devices. Although EPA did not name the hazardous air pollutant (HAP) control systems needed to meet specific emission reduction for a sulfite mill, any technology that reduces HAP emissions is considered a MACT control option regardless of why the technology was installed. The hot condensing scrubber and its auxiliary tank and the hotwell all reduce emissions of methanol, a HAP. Thus, the vents, wastewater and condensate streams from these control devices must be controlled per 40 CFR 63.444(c)(2).

Abstract for [M040025] and [0400019]

Q: If a facility is subject to the metal coil surface coating requirements of both 40 CFR part 63, subpart SSSS and 40 CFR part 60, subpart TT, and uses thermal incinerators or catalytic oxidizers to comply, would EPA find streamlining of these two monitoring requirements acceptable?

A: Yes. EPA concludes that for facilities using thermal incinerators, the MACT subpart SSSS effluent gas monitoring requirements may be streamlined with the similar subpart TT monitoring requirements. Also, EPA determines that for facilities using catalytic oxidizers, either of the MACT subpart SSSS monitoring requirements may be streamlined with the NSPS subpart TT monitoring requirements.

Abstract for [M040026]

Q1: Does Trelleborg Wheel Systems operate a “rubber processing affected source” as described in the Rubber Tire Manufacturing MACT standard at 40 CFR 63.5982(b)(4)?

A1: Yes. Trelleborg mixes the raw materials for solid rubber tires in a Banbury mixer to produce mixed rubber compound. EPA concludes that this constitutes a rubber processing affected source.

Q2: Are the adhesives that Trelleborg uses to hold layers of mixed rubber compound to a steel rim “cements and solvents” as defined in the Rubber Tire Manufacturing MACT standard at 40 CFR 63.6015 or a “rubber to metal coating” as defined in the Miscellaneous Metal Parts Coating NESHAP at 40 CFR 63.3981?

A2: Even though the adhesives meet the definition of “cements and solvents,” EPA concludes that the adhesives are more correctly designated as a rubber to metal coating because the definition of rubber to metal coating explicitly describes Trelleborg's use of the adhesives.

Q3: Does Trelleborg operate a “tire production affected source” as described in the Rubber Tire Manufacturing MACT standard at 40 CFR 63.5982(b)(1)?

A3: One defining characteristic of “cements and solvents” is their use as process aids in the production of rubber tires. EPA concludes that the organic compounds in Trelleborg's mixed rubber compound are integral components of the product, and do not merely facilitate or assist the production of rubber tires. Therefore, EPA concludes that Trelleborg's adhesive coating lines and tire production operations do not meet the definition of a tire production affected source.

Abstract for [M040027], [M040028], [0400028] and [0400032]

Q1: What is the definition of “treatment” under NSPS subpart WWW at 40 CFR 60.752(b)(2)(iii)(C)?

A1: EPA has determined that compression, de-watering, and filtering the landfill gas down to at least 10 microns is considered “treatment” under NSPS Subpart WWW, 40 CFR 60.752(b)(2)(iii)(C). EPA made the same determination under ADI Control Numbers 0200019, 0200028, and 0300121, available on the ADI website.

Q2: Do the municipal solid waste landfill regulations apply to the gas once treatment has occurred?

A2: No. Once landfill gas has been treated, NSPS subpart WWW no longer applies to the treated gas. However, all gas before treatment, and respective control equipment, would be subject.

Abstract for [Z040002]

Q: The Duratek Services facility in Oak Ridge, Tennessee, proposes to sort and repackage wastes for off-site disposal and will incinerate secondary wastes which are incidental to the primary sorting operation. The wastes which are sorted and repackaged will include some beryllium machine shop waste. Will the facility be subject to the NESHAP subpart C requirements?

A: If any beryllium-containing waste will be incinerated, the incinerator will be subject to NESHAP subpart C. If the company can confirm that emissions from incinerating the waste will be in compliance with the standard, a waiver from emission testing requirements may be appropriate.

Abstract for [0400020]

Q: Will EPA approve under 40 CFR part 60, subpart Dc, the use of monthly fuel usage monitoring for the new package boiler at the ISG facility in Steelton, Pennsylvania?

A: Yes. EPA will approve the use of monthly fuel usage monitoring and recording rather than daily monitoring as required by subpart Dc due to the fact that the new package boiler is only permitted to combust pipeline-quality natural gas as fuel.

Abstract for [0400021]

Q: Will EPA approve under 40 CFR part 60, subpart GG, new test port locations for conducting the oxygen traverse and gas sampling for the Old Dominion Electric Cooperative Marsh Run facility in Virginia?

A: Yes. EPA will approve the new test port location and reduced amount of oxygen traverse data in the exhaust stack from the turbine, provided that the oxygen range for the 8 traverse points does not exceed 0.5 percent oxygen and the average oxygen content is greater than 15 percent.

Abstract for [0400022]

Q1: Will the combustion of a fuel produced during the polymerization of distillates from petroleum refining operations at the Resinall facility in Severn, North Carolina be regulated under the NSPS subpart Dc?

A1: Yes. Because the fuel is derived from petroleum and is described as having properties similar to those of lightweight fuel oils, it is considered equivalent to oil under NSPS subpart Dc. Under NSPS subpart Dc, the same SO2 standard will apply whether the fuel is classified as No. 2 fuel oil or residual oil. If the fuel does not meet the No. 2 fuel oil criteria, it would be classified as residual oil.

Q2: Will this fuel be considered a “fossil fuel” as defined in NSPS subparts D and Da?

A2: Yes. Based on the description provided by the company, the fuel appears to meet the definition of fossil fuel provided in NSPS Subparts D and Da in that it is a liquid fuel derived from petroleum for the purpose of creating useful heat.

Abstract for [0400023]

Q: Grupo Antolin Kentucky, in Lexington, Kentucky, proposes to maintain baghouse inlet temperature and pressure drop to ensure continuous compliance with lead emissions standards. Are these proposed operating parameters sufficient to ensure compliance with the lead standards in NSPS subpart CCCC?

A: Yes. Maintaining temperature and pressure drop in accordance with the conditions mentioned in this letter will ensure reasonable assurance of compliance with NSPS subpart CCCC.

Abstract for [0400024]

Q: Natural gas-fired fuel heaters at a Gulfstream Pipeline facility in Florida will heat glycol which will be used to heat natural gas prior to its use in combustion turbines as fuel. Will the heaters be subject to NSPS subpart Dc?

A: Yes. Because the fuel heaters will heat a heat transfer medium (glycol), they will be steam generating units subject to NSPS subpart Dc.

Abstract for [0400025]

Q: Will EPA allow continuous monitoring of fan amps and the total scrubbing liquid flow rate as an alternative to the required monitoring parameters under NSPS subpart BB, for a smelt dissolving tank dynamic scrubber at a MeadWestvaco Coated Board facility in Alabama?

A: Yes. Because the dynamic scrubber operates near atmospheric pressure, the proposed monitoring is an acceptable alternative to the NSPS subpart BB requirement to monitor the pressure loss of the gas stream and the scrubbing liquid supply pressure.

Abstract for [0400026]

Q: Are proposed alternative monitoring procedures at an Eastman Chemical facility in Tennessee, regarding flow indicator location, acceptable for two process units which may comply with the NSPS subpart NNN by using either a flare or boilers?

A: Yes. The proposed alternatives meet the intent of NSPS subpart NNN by ensuring that affected vent streams are directed to the combustion device used to control VOC emissions.

Abstract for [0400027]

Q: A proposed carbon burn-out unit with a heat input of 95.57 mmBtu/hr will be used to burn fly ash and heat feedwater going to electric utility steam generating units at a Progress Energy facility in North Carolina. Will the carbon burn-out unit be a steam generating unit subject to the 40 CFR part 60, subpart Dc?

A: Yes. The carbon burn-out unit will be an affected facility subject to NSPS subpart Dc and will be subject to the recordkeeping requirements of that standard. No NSPS subpart Dc emission limits will be applicable to the combustion of fly ash since fly ash is not considered “coal” under this rule. However, if the heat input exceeds 100 mmBtu/hr, the carbon burn-out unit will be subject to NSPS subpart Db and will be subject to the emission limits for “coal” as defined in NSPS subpart Db because the definition includes fly ash.

Abstract for [0400029]

Q: Do the NSPS subparts Kb, VV, III, NNN, and RRR apply to any of the Liquid Resources of Ohio facilities in Medina, Ohio, a plant that manufactures ethanol from waste beverages and distills ethanol from waste alcohol containing beverages?

A: NSPS subparts Kb and VV apply to all affected operations at the plant. NSPS subpart NNN applies only to the distillation of waste alcohol containing beverages. NSPS subparts III and RRR do not apply to any facilities at this plant.

Abstract for [0400030]

Q1: Are covers on junction boxes at the Marathon Ashland Petroleum facility in St. Paul Park, Minnesota, required to be equipped with a gasket or other type of seal in order to satisfy the “tight seal” requirements for junction box covers in NSPS subpart QQQ?

A1: Yes. The tight seal requirements in 40 CFR 60.692-2(b)(2) implicitly require that all junction box covers be equipped with a gasket and clamp. [This determination has been superseded by determination number 0400031, summarized below.]

Q2: May infrequently used drains be equipped with a tightly sealed cap or plug in lieu of the water seal controls required by 40 CFR 60.692-2(a)(1)?

A2: Yes. Tightly sealed caps or plugs may be used on drains that are not used more than twice in a two month time frame. However, all other drains must be equipped with water seals.

Q3: Do hatches and valves satisfy the “tightly sealed cap or plug” requirement under 40 CFR 60.692-2(a)(4)?

A3: Yes. Any type of cap or plug which provides a gas tight barrier to the atmosphere meets the requirements of 40 CFR 60.692-2(a)(4).

Abstract for [0400031]

Q1: In a December 4, 2003 letter, EPA determined that a gasket is required to satisfy the “tight seal” requirements for junction box covers under 40 CFR part 60, subpart QQQ. Would another type of seal which prevents leaks to the atmosphere, such as external caulking, satisfy these requirements?

A1: Yes. Any type of seal that prevents detectable leaks around the edges is sufficient to comply with the “tight seal” requirements in 40 CFR 60.692-2(b)(2).

Q2: Are drains which are not open to the atmosphere more than 24 hours per month used infrequently enough to allow the usage of a tightly sealed cap or plug in lieu of the water seal requirements in 40 CFR 60.692-2(a)(1)?

A2: Yes. Drains open less than 24 hours per month are used infrequently enough to forgo the water seal requirements.

Abstract for [0400033]

Q1: Will EPA grant the request of the Central Disposal Systems facility in Lake Mills, Iowa, for flexibility under NSPS, subpart WWW, to modify the design of its collection and control system?

A1: The facility may make changes to the design of the collection and control system by submitting a revised collection and control system design plan to and receiving approval from the Iowa Department of Natural Resources (IDNR). The facility must then follow the revised design plan if approved by IDNR.

Q2: Will EPA allow use of a temporary collection system, leachate collection system, and leachate recirculation system until final grades are achieved?

A2: The facility may use these types of collection systems if they meet the requirements of 40 CFR 60.759 and are approved in the design plan.

Q3: Will EPA exempt leachate recirculation piping, temporary horizontal collection trenches, and leachate sump/riser connections from the oxygen/nitrogen, temperature, and pressure requirements under NSPS subpart WWW?

A3: No. The facility states that these gas collection systems are not part of the Landfill NSPS collection and control system. However, it appears that these gas collection systems would be part of the Landfill NSPS collection and control system if they are collecting gas from an area, cell, or group of cells if the initial solid waste has been in place for a period of five years or more (if active), or two years or more (if closed or at final grade). Although an exemption will not be granted, the facility may still propose an alternative monitoring procedure.

Q4: Will EPA allow the facility to exclude dangerous areas from the surface monitoring?

A4: 40 CFR 60.753(d) allows for dangerous areas to be excluded. These areas will be reviewed by IDNR as part of the facility's surface monitoring design plan.

Q5: Will EPA allow the facility to apply the surface monitoring requirement only to closed portions of the landfill?

A5: No. Surface monitoring is required in all areas that collection systems are required.

Q6: Will EPA allow the facility to widen the spacing between surface monitoring intervals from 30 meters to 60 meters in areas that will have a final cover in place with a geomembrane component?

A6: No.

Q7: Will EPA allow higher oxygen levels in gas wellheads if temperatures are maintained below 38 degrees C?

A7: Yes. Higher values may be set if the facility demonstrates that the elevated parameters do not cause fires or significantly inhibit anaerobic decomposition by killing methanogens.

Q8: Will EPA allow the facility to place the surface monitoring probe inlet as close as possible, 5 to 10 centimeters from the ground, but further away when there are materials that could clog the probe tip?

A8: No.

Q9: Will EPA allow a variance to the 10-day window that 40 CFR 60.755(c)(4)(ii) allows to adjust the cover and/or collection system?

A9: No. Because this is not an alternative monitoring request, EPA Region 7 does not have the authority to allow this.

Q10: Will EPA allow the facility to not perform surface monitoring during the winter quarter?

A10: No. The facility is apparently concerned that the flame ionization detector will not work unless the ambient air is above freezing. There are days during each quarter that are warm enough to do surface monitoring. The facility has not proposed any alternative monitoring.

Q11: Will EPA allow the facility to record the flow to the flare instead of the presence of a pilot flame?

A11: No. The regulations require continuous records of the flare pilot flame. EPA notes that it does understand that the lack of flame at the flare is not necessarily a violation.

Q12: Will EPA approve a final cover design that includes the use of a geomembrane or synthetic cover and that may have positive pressure at wellheads under certain conditions?

A12: Yes. Positive pressure under these circumstances is allowed by 40 CFR 60.753(b)(2). Pressure limits should be included in the design plan for approval by IDNR.

Abstract for [0400034]

Q: Will EPA approve the use of custom fuel sulfur monitoring schedules under 40 CFR part 60, subpart GG, for natural gas-fired turbines at three Basin Electric Power Cooperative facilities in Wyoming?

A: Yes. Based on an EPA directive dated August 14, 1987, EPA will approve the use of custom fuel sulfur monitoring schedules for natural gas-fired turbines at the facilities in question.

Abstract for [0400035]

Q: Will EPA approve the use of custom fuel sulfur monitoring schedules under NSPS subpart GG, for two natural gas-fired emergency turbine generators at the LaBarge Black Canyon Dehydration Facility in Sublette County, Wyoming?

A: Yes. Based on an EPA directive dated August 14, 1987, EPA will approve the use of custom fuel sulfur monitoring schedules for natural gas-fired turbines at the facility in question.

Abstract for [0400036]

Q: The California Parks and Recreation Department owns and operates an air curtain incinerator that burns clean wood for the purpose of clearing dead trees at state parks. Is this unit subject to NSPS subpart CCCC?

A: No. The activity of this unit is neither commercial nor industrial, and does not burn commercial and industrial waste as defined in 40 CFR 60.2265.

Lisa C. Lund,
Acting Director, Office of Compliance.

[FR Doc. 04-23392 Filed 10-18-04; 8:45 am]

BILLING CODE 6560-50-P